DEPARTMENT OF ENERGY

Proposed Agency Information Collection

AGENCY: U.S. Department of Energy, DOE.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before April 24, 2012. If you anticipate difficulty in submitting comments within that period, contact the person listed in ADDRESSES as soon as possible.

ADDRESSES: Written comments may be sent to Portfolio Analysis and Management System (PAMS) Information Collection Request (ICR) by email at pams-icr-comments@science.doe.gov.

FOR FURTHER INFORMATION CONTACT: Requests for additional information or copies of the information collection instrument and instructions should be directed to Marina Amoroso by email at marina.amoroso@science.doe.gov.

SUPPLEMENTARY INFORMATION: This information collection request contains:

(1) OMB No.: New.

(2) Information Collection Request Title: Portfolio Analysis and Management System (PAMS) Submissions for Letter of Intent (LOI), Preproposals, Interagency Proposals, and DOE National Laboratory Proposals; System Registration by External Users.

(3) Type of Request: New.

(4) Purpose: The Department of Energy (DOE), Office of Science (SC) has chosen to leverage the use of Government, Off-the-Shelf (GOTS) software capabilities to implement a new consolidated system called Portfolio Analysis and Management System (PAMS). This new system is based on the Health Resources and Services Administration (HRSA) Electronic Handbooks software. Discretionary financial assistance proposals continue to be collected using Grants.gov but are imported into PAMS for use by the program offices. Under the proposed information collection, an external interface will be implemented in PAMS to allow two other types of proposal submission: DOE National Laboratories will be able to submit proposals for technical work authorizations directly into PAMS, while other Federal Agencies will be able to submit Proposals for interagency awards directly into PAMS. External users from all institution types will be able to submit Solicitation Letters of Intent and Preproposals directly into PAMS. All applicants, whether they submitted through Grants.gov or PAMS, will be able to register with PAMS to view the proposals that were submitted. They will also be able to maintain a minimal amount of information in their personal profile.

A letter of intent is an optional vehicle that constitutes a potential applicant's intent to submit a formal proposal. Institutions may submit a letter of intent if it is requested in the solicitation. Users will select an institution from a drop down list, if registered to more than one institution.

A Preproposal is a vehicle that constitutes the expression of a potential applicant's desire to submit a formal proposal. Preproposals can be either required or requested but optional, according to the rules of a solicitation. A preproposal allows the potential applicant to receive a response from the cognizant program office regarding the suitability of the proposed research project.

Lab technical proposals must be completed by DOE National Laboratories in order to receive funding from the DOE Office of Science. The form must be completed as instructed in the Solicitation. This form can also be filled out by Inter Agency Institutions that have been invited by the DOE Office of Science to submit a proposal for funding through an interagency agreement. Neither lab nor interagency awards are discretionary grants suitable for proposal submission through Grants.gov.

(5) Annual Estimated Number of Respondents: 10,000 PAMS registrants, 8,000 submitters of lab proposals, interagency proposals, preproposals, and Letters Of Intent (LOI) (assuming one person per estimated submission). 2,000 viewers of proposals submitted through Grants.gov (assuming ⅔ of the annual 3,000 applicants, calculated using the average of the number of financial assistance proposals received in fiscal year 2006 through fiscal year 2010).

(6) Annual Estimated Number of Total Responses: The Office of Science receives about 1,000 DOE national laboratory and interagency proposals per year, based on a five-year average of estimated submission numbers (fiscal year 2006 through fiscal year 2010) and about 7,000 preproposals and letters of intent per year, based on an estimate of about 200 per solicitation and the number of solicitations per year (about 35, based on a five-year average between fiscal year 2006 and fiscal year 2010).

(7) Annual Estimated Number of Burden Hours: The time it takes to complete a form depends upon the type of form being completed. External users will need to register with PAMS in order to access the system. It takes approximately 30 minutes for external users to complete the forms required to become a registered PAMS user. Both LOI and pre-proposal forms take 15 minutes each, whereas completing a lab/interagency proposal will take about 2 hours. Based on the annual estimated number of responses, broken down by DOE national laboratory, letter of intent and preproposal, and the time required for external users to register with PAMS, the estimated annual number of burden hours is 5,450.

1,000 (lab proposals) × 2 hours + 7,000 (preproposals and letters of intent) × .25 hours + 10,000 (estimated number of respondents) × .5 hours = 8,750 total burden hours.

(8) Annual Estimated Reporting and Recordkeeping Cost Burden: $0.

Statutory Authority: Section 641 of the Department of Energy Organization Act, codified at 42 U.S.C. 7251.

Issued in Washington, DC on February 15, 2012.
Marina Amoroso,
Deputy Project Manager for Business Policy and Operations, Department of Energy Office of Science, SC-45.

[FR Doc. 2012-4308 Filed 2-23-12; 8:45 am]

BILLING CODE 6450-01-P